DEPARTMENT OF HOMELAND SECURITY

Federal Emergency Management Agency

[Docket ID: FEMA-2016-0027; OMB No. 1660-0114]

Agency Information Collection Activities: Submission for OMB Review; Comment Request; FEMA Preparedness Grants: Port Security Grant Program (PSGP)

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before February 6, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on October 12, 2016 at 81 FR 70431 with a 60 day public comment period. FEMA received several requests for a copy of the proposed information collection via email and telephone, as well as from participants at a public meeting. FEMA provided these requesters with a copy of the proposed collection. FEMA also received one comment with formatting suggestions for the form. The purpose of this notice is to notify the public that FEMA will submit the information collection abstracted below to the Office of Management and Budget for review and clearance.

Collection of Information

Title: FEMA Preparedness Grants: Port Security Grant Program (PSGP).

Type of Information Collection: Revision of a currently approved information collection.

OMB Number: 1660-0114.

Form Titles and Numbers: FEMA Form 089-5, PSGP Investment Justification.

Abstract: The previous version of FEMA Form 089-5 is outdated and has become cumbersome with subsequent program explanations within the notice of funding opportunity explaining the type of information required. The revised form consolidates the requested information and provides easy to follow drop-down boxes to minimize confusion among applicants, reducing time needed to collect the information for both applicants and FEMA, and reducing the review time by FEMA and federal partners.

Affected Public: State, Local or Tribal Government; Business or other for-profit.

Estimated Number of Respondents: 597.

Estimated Total Annual Burden Hours: 17,154 hours.

Estimated Cost: The estimated annual cost to respondents for the hour burden is $1,094,112.60. There are no annual costs to respondents' operations and maintenance costs for technical services. There are no annual start-up or capital costs. The cost to the Federal Government is $770,401.

Dated: December 27, 2016.
Richard W. Mattison,
Records Management Program Chief, Mission Support, Federal Emergency Management Agency, Department of Homeland Security.

[FR Doc. 2016-32054 Filed 1-5-17; 8:45 am]

BILLING CODE 9111-46-P